DEPARTMENT OF COMMERCE

National Oceanic and Atmospheric Administration

RIN 0648-XF780

Pacific Island Fisheries; Western Pacific Stock Assessment Review; Public Meeting

AGENCY: National Marine Fisheries Service (NMFS), National Oceanic and Atmospheric Administration (NOAA), Commerce.

ACTION: Notice; public meeting.

SUMMARY: NMFS and the Western Pacific Fishery Management Council (Council) will convene a Western Pacific Stock Assessment Review (WPSAR) of a 2017 Benchmark Stock Assessment for the Main Hawaiian Islands (MHI) Deep 7 Bottomfish Complex.

DATES: See SUPPLEMENTARY INFORMATION for meeting dates and times and daily agenda.

ADDRESSES: The meeting will be held at the NMFS Honolulu Service Center at Pier 38, 1129 N. Nimitz Hwy., Suite 220, Honolulu, HI 96817.

FOR FURTHER INFORMATION CONTACT: Michael Seki, Director—Pacific Islands Fisheries Science Center, telephone: (808) 725-5360, or michael.seki@noaa.gov.

SUPPLEMENTARY INFORMATION: Scientists from the NMFS Pacific Islands Fisheries Science Center (PIFSC) conducted a benchmark stock assessment of the MHI Deep 7 bottomfish complex. This benchmark assessment incorporated new data in the form of fishery-independent biomass estimates, and also followed data filtering recommendations from a series of five community workshops that involved fishermen, managers, and scientists on best practices for filtering bottomfish commercial catch and effort data from State of Hawaii commercial catch reports. Because of these workshops, PIFSC scientists are now able to better link individual fishermen's catch reports further back in time, and this linking is newly applied in this benchmark stock assessment.

This assessment used commercial data for the years 1948-2015, and assessed Deep 7 bottomfish by building on the modeling framework from the previous three assessments, but with improved data and data filtering as previously described, along with improvements to catch-per-unit-effort (CPUE) standardization, and other modeling approaches. The assessment also estimates unreported catches using catch and effort data following methods similar to those applied in previous assessments. After applying best practices from the workshop recommendations for filtering for CPUE calculation, PIFSC scientists applied model selection techniques to select the best structural form to standardize CPUE. CPUE in the model was split into two time series, fishing years 1948-2003, and fishing years 2003-2015 to accommodate new effort reporting from a change in reporting form by the State in October 2002.

Meeting Agenda for WPSAR Review

The meeting schedule and agenda are as follows (8:30 a.m.-5 p.m. every day):

Monday, November 13, 2017

1. Welcome and Introductions

2. Background information—Objectives and Terms of Reference

3. Fishery

a. Operation

b. Management

4. History of stock assessments and reviews

5. Data

a. State of Hawaii Fisher and Dealer Reporting Systems

b. Life history information

c. Fishery-independent survey

Tuesday, November 14, 2017

6. Presentation and review of stock assessment

Wednesday, November 15, 2017

7. Continue review of stock assessment

Thursday, November 16, 2017

8. Continue review of stock assessment

9. Public comment period

10. Panel discussions (Closed to the public)

Friday, November 17, 2017

11. Continue panel discussions (Closed; morning)

12. Present results (afternoon)

13. Adjourn

The agenda order may change. The meeting will run as late as necessary to complete scheduled business.

Special Accommodations

This meeting is physically accessible to people with disabilities. Please direct requests for sign language interpretation or other auxiliary aids to Michael Seki, Director—Pacific Islands Fisheries Science Center, (808) 725-5360 (phone) (808) 725-5360 (fax), at least 5 days prior to the meeting date.

Authority: 16 U.S.C. 1801 et seq.

Dated: October 24, 2017.
Emily H. Menashes,
Acting Director, Office of Sustainable Fisheries, National Marine Fisheries Service.

[FR Doc. 2017-23422 Filed 10-26-17; 8:45 am]

BILLING CODE 3510-22-P